DEPARTMENT OF COMMERCE

INTERNATIONAL TRADE ADMINISTRATION

[A-821-831]

Investigation of Urea Ammonium Nitrate Solutions From the Russian Federation: Notice of Extension of Due Date for the Submission of Comments on the Russian Federation's Status as a Market Economy Country Under the Antidumping Duty Laws

AGENCY: Enforcement and Compliance, International Trade Administration, Department of Commerce.

SUMMARY: The Department of Commerce (Commerce) has granted a three-day extension of the deadline to submit comments on the Russian Federation's (Russia) status as a market economy (ME) country. Accordingly, the deadline to submit such comments, for all interested parties, is now no later than the close of business (i.e., 5 p.m. Eastern Time) on September 10, 2021.

DATES: Applicable September 8, 2021.

FOR FURTHER INFORMATION CONTACT: Leah Wils-Owens, Office of Policy, Enforcement and Compliance, International Trade Administration, U.S. Department of Commerce, 1401 Constitution Avenue NW, Washington, DC 20230; telephone: (202) 482-4203.

SUPPLEMENTARY INFORMATION: On July 30, 2021, Commerce published in the Federal Register the notice Investigation of Urea Ammonium Nitrate Solutions From the Russian Federation: Opportunity to Comment on the Russian Federation's Status as a Market Economy Country Under the Antidumping Duty Laws, 86 FR 41008 (July 30, 2021). In that notice, Commerce announced that it is seeking public comment and information with respect to whether to continue to treat Russia as a ME country for purposes of the antidumping duty law, and it invited the public to submit comments by August 30, 2021, on such inquiry. In response to a request to extend the comment period, we extended the due date for the submission of comments to September 7, 2021.¹

¹ See Investigation of Urea Ammonium Nitrate Solutions From the Russian Federation: Notice of Extension of Due Date for the Submission of Comments on the Russian Federation's Status as a Market Economy Country Under the Antidumping Duty Laws, 86 FR 47625 (August 26, 2021).

On September 2, 2021, we received a second request to extend the comment period. In response to this request, we have extended the due date for the submission of comments by three additional days.² The revised due date for comments is September 10, 2021. Interested parties may submit comments and information at the Federal eRulemaking Portal: www.Regulations.gov. The identification number is ITA-2021-0003. To be assured of consideration, written comments and information must be received no later than September 10, 2021.

² See Memorandum, “Urea Ammonium Nitrate Solutions from the Russian Federation: Extension of Time to File Comments on Status,” dated September 3, 2021.

Dated: September 3, 2021.
James Maeder,
Deputy Assistant Secretary for Antidumping and Countervailing Duty Operations.

[FR Doc. 2021-19481 Filed 9-7-21; 8:45 am]

BILLING CODE 3510-DS-P